FEDERAL COMMUNICATIONS COMMISSION

Notice of Public Information Collection(s) Approved by the Office of Management and Budget

April 14, 2009.

SUMMARY: The Federal Communications Commission has received Office of Management and Budget (OMB) approval for the following public information collection(s) pursuant to the Paperwork Reduction Act of 1995 (44 U.S.C. 3501-3520). An agency may not conduct or sponsor a collection of information unless it displays a currently valid OMB control number, and no person is required to respond to a collection of information unless it displays a currently valid OMB control number. Comments concerning the accuracy of the burden estimate(s) and any suggestions for reducing the burden should be directed to the person listed in the FOR FURTHER INFORMATION CONTACT section below.

FOR FURTHER INFORMATION CONTACT: For additional information or copies of the information collection(s), contact Cathy Williams at (202) 418-2918.

SUPPLEMENTARY INFORMATION: OMB Control Number: 3060-0027.

OMB Approval Date: April 6, 2009.

Expiration Date: April 30, 2012.

Title: Application for Construction Permit for a Commercial Broadcast Station.

Form No.: FCC Form 301.

Estimated Annual Burden: 4,453 respondents; 7,889 responses; total annual burden: 19,291 hours.

Obligation to Respond: Required to obtain or retain benefits. The statutory authority for this information collection is contained in 154(i), 303 and 308 of the Communications Act of 1934, as amended.

Nature and Extent of Confidentiality: There is no need for confidentiality with this information collection.

Needs and Uses: On December 18, 2007, the Commission adopted a Report and Order and Third Further Notice of Proposed Rulemaking (the “Order”) in MB Docket Nos. 07-294; 06-121; 02-277; 04-228, MM Docket Nos. 01-235; 01- 317; 00-244; FCC 07-217. The Order adopts rule changes designed to expand opportunities for participation in the broadcasting industry by new entrants and small businesses, including minority- and women-owned businesses. Consistent with actions taken by the Commission in the Order, the following changes are made to Form 301: The instructions to Form 301 have been revised to incorporate a definition of “eligible entity,” which will apply to the Commission's existing Equity Debt Plus (“EDP”) standard, one of the standards used to determine whether interests are attributable. Section II of the form includes a new question asking applicants to indicate whether the applicant is claiming “eligible entity” status. The instructions have been revised to assist applicants with completing the new question.

OMB Control Number: 3060-0031.

OMB Approval Date: April 6, 2009.

Expiration Date: April 30, 2012.

Title: Application for Consent to Assignment of Broadcast Station Construction Permit or License, FCC Form 314; Application for Consent to Transfer Control of Entity Holding Broadcast Station Construction Permit or License, FCC Form 315; Section 73.3580, Local Public Notice of Filing of Broadcast Applications.

Form No.: FCC Forms 314 and 315.

Estimated Annual Burden: 4,820 respondents; 12,520 responses, total annual burden: 17,933 hours.

Obligation to Respond: Required to obtain or retain benefits. The statutory authority for this information collection is contained in 154(i), 303 and 308 of the Communications Act of 1934, as amended.

Nature and Extent of Confidentiality: There is no need for confidentiality with this information collection.

Needs and Uses: On December 18, 2007, the Commission adopted a Report and Order and Third Further Notice of Proposed Rulemaking (the “Order”) in MB Docket Nos. 07-294; 06-121; 02-277; 04-228, MM Docket Nos. 01-235; 01- 317; 00-244; FCC 07-217. The Order adopts rule changes designed to expand opportunities for participation in the broadcasting industry by new entrants and small businesses, including minority- and women-owned businesses. Consistent with actions taken by the Commission in the Order, the following changes are made to Forms 314 and 315: The instructions to Form 314 have been revised to incorporate a definition of “eligible entity,” which will apply to the Commission's existing Equity Debt Plus (“EDP”) standard, one of the standards used to determine whether interests are attributable. Section II of the form includes a new certification concerning compliance with the Commission's anti-discrimination rules. Section III of the form includes a new question asking applicants to indicate whether the applicant is claiming “eligible entity” status. Section III also contains a new question asking applicants to indicate whether the proposed transaction involves the assignment of a radio station license that is part of a non-compliant, grandfathered cluster of radio licenses, and whether any licenses will be divested within 12 months of consummation of the transaction and assigned to an eligible entity. The instructions for Sections II and III have been revised to assist applicants with completing the new questions.

The instructions to Form 315 have been revised to incorporate a definition of “eligible entity,” which will apply to the Commission's existing Equity Debt Plus (“EDP”) standard, one of the standards used to determine whether interests are attributable. Section II of the form includes a new certification concerning compliance with the Commission's anti-discrimination rules. Section IV of the form includes a new question asking applicants to indicate whether the applicant is claiming “eligible entity” status. Section IV also contains a new question asking applicants to indicate whether the proposed transaction involves the assignment of a radio station license that is part of a non-compliant, grandfathered cluster of radio licenses, and whether any licenses will be divested within 12 months of consummation of the transaction and assigned to an eligible entity. The instructions for Sections II and IV have been revised to assist applicants with completing the new questions.

OMB Control Number: 3060-0075.

OMB Approval Date: April 6, 2009.

Expiration Date: April 30, 2012.

Title: Application for Transfer of Control of a Corporate Licensee or Permittee, or Assignment of License or Permit for an FM or TV Translator Station, or a Low Power Television Station—FCC Form 345.

Form No.: FCC Form 345.

Estimated Annual Burden: 1,000 respondents; 2,000 responses; total annual burden: 1,792 hours.

Obligation to Respond: Required to obtain or retain benefits. The statutory authority for this information collection is contained in 154(i), 303 and 310 of the Communications Act of 1934, as amended.

Nature and Extent of Confidentiality: There is no need for confidentiality with this information collection.

Needs and Uses: On December 18, 2007, the Commission adopted a Report and Order and Third Further Notice of Proposed Rulemaking (the “Order”) in MB Docket Nos. 07-294; 06-121; 02-277; 04-228, MM Docket Nos. 01-235; 01- 317; 00-244; FCC 07-217. Consistent with actions taken by the Commission in the Order, the following changes are made to Form 345: Section II of Form 345 includes a new certification concerning compliance with the Commission's anti- discrimination rules and the instructions for Section II have been revised to assist applicants with completing the new question. The instructions in Section III have also been revised to incorporate a definition of “eligible entity,” which will apply to the Commission's existing Equity Debt Plus (“EDP”) standard, one of the standards used to determine whether interests are attributable.

Marlene H. Dortch,
Secretary, Federal Communications Commission.

[FR Doc. E9-8851 Filed 4-20-09; 8:45 am]

BILLING CODE 6712-01-P